BROADCASTING BOARD OF GOVERNORS

SES Performance Review Board; Membership

AGENCY: Broadcasting Board of Governors (BBG).

ACTION: Notice of Membership of SES Performance Review Board.

SUMMARY: Title 5 United States Code, Section 4314, requires that notice of the appointment of an individual to serve as a member of a performance review board (PRB) shall be published in the Federal Register. The following individuals have been appointed to serve as members of the PRB for the Broadcasting Board of Governors: Marie E. Lennon, Chief of Staff, International Broadcasting Bureau; Kelu Chao, Director of Performance Review, International Broadcasting Bureau; and Mark L. Prahl, Associate Director for Operations, Voice of America.

ADDRESSES: Broadcasting Board of Governors, 330 Independence Ave. SW., Washington, DC 20237.

FOR FURTHER INFORMATION CONTACT: Donna S. Grace, Director, Office of Human Resources, 202-382-7500.

Jeffrey N. Trimble,
Deputy Director, International Broadcasting Bureau.

[FR Doc. 2012-28257 Filed 11-19-12; 8:45 am]

BILLING CODE 8610-01-P